DEPARTMENT OF COMMERCE

International Trade Administration

[A-552-833]

Raw Honey From the Socialist Republic of Vietnam: Initiation of Antidumping Duty Changed Circumstances Review

AGENCY: Enforcement and Compliance, International Trade Administration, Department of Commerce.

SUMMARY: The U.S. Department of Commerce (Commerce) is initiating a changed circumstances review (CCR) of the antidumping duty (AD) order on raw honey from the Socialist Republic of Vietnam (Vietnam) to examine whether Vietnam remains a non-market economy (NME) country for purposes of the application of the AD law.

DATES: Applicable October 30, 2023.

FOR FURTHER INFORMATION CONTACT: Chien-Min Yang or Leah Wils-Owens, Office of Policy, Enforcement and Compliance, International Trade Administration, U.S. Department of Commerce, 1401 Constitution Avenue NW, Washington, DC 20230; telephone: (202) 482-5484 or (202) 482-4203, respectively.

SUPPLEMENTARY INFORMATION:

Background

On September 8, 2023, the Government of Vietnam (GOV) submitted a letter requesting that Commerce conduct a review of Vietnam's status as an NME country ¹ within the context of a CCR of the AD order on raw honey from Vietnam.² In the CCR Request, the GOV describes changes that have occurred in Vietnam in recent years as they relate to each of the statutory criteria Commerce uses to evaluate a country's market economy status. Specifically, in the CCR Request, the GOV contends that the Vietnamese dong is transparently convertible into other foreign currencies based on market principles, fairness, and non-discrimination.³ In the CCR Request, the GOV argues that bargaining between labor and management on wage rates in Vietnam is free, and that Vietnam now possesses a clear legal framework to ensure employees' basic rights.⁴ With regard to foreign direct investment, the GOV states in the CCR Request that Vietnam has made improvements in the investment environment, stating that no differences exist in how foreign and domestic investors are treated.⁵ In the CCR Request, the GOV also provides information on the reduction of government ownership and control over the means of production in Vietnam and maintains that private sector development, state-owned enterprise restructuring and divestment, and land reform initiatives have all been taken.⁶ As to the allocation of resources and the government's role in price and output decisions, the GOV states in the CCR Request that the GOV does not possess significant control over these areas.⁷ In the CCR Request, the GOV also identifies other factors that have been important to market-oriented reforms, including the establishment of a legal framework for bankruptcy, greater transparency in corporate governance, the launch of a legal framework for a state audit, a unified legal system, and diversified foreign economic relations.⁸

¹ See GOV's Letter, “Request for Changed Circumstances Review,” dated September 8, 2023 (CCR Request).

² See Raw Honey from Argentina, Brazil, India, and the Socialist Republic of Vietnam: Antidumping Duty Orders, 87 FR 35501 (June 10, 2023).

³ See CCR Request at 3.

⁴ Id. at 7-8.

⁵ Id. at 10-14.

⁶ Id. at 14-16.

⁷ Id. at 16-20.

⁸ Id. at 20-23.

On October 6, 2023, the American Honey Producers Association and Sioux Honey Association (the petitioners) submitted comments in opposition to CCR Request.⁹ On October 17, 2023, the GOV submitted rebuttal comments in response to the Petitioners' Comments.¹⁰ On October 19, 2023, Commerce received comments from the following parties: the Southern Shrimp Alliance; ¹¹ the Metal Grating Coalition; ¹² Catfish Farmers of America (CFA) and America's Catch, Inc., Alabama Catfish, LLC d/b/a Harvest Select Catfish, Inc., Consolidated Catfish Companies, LLC d/b/a Country Select Catfish, Delta Pride Catfish, Inc., Guidry's Catfish, Inc., Heartland Catfish Company, Magnolia Processing, Inc. d/b/a Pride of the Pond, and Simmons Farm Raised Catfish, Inc.; ¹³ the Coalition for Fair Trade in Hardwood Plywood; ¹⁴ and Wiley Rein, LLP.¹⁵ On October 20, 2023, the following parties submitted comments in opposition to GOV's CCR Request: Steel Dynamics, Inc. (SDI), the American Shrimp Processors Association (ASPA), and the American Kitchen Cabinet Alliance (AKCA); ¹⁶ the Steel Manufacturers Association; ¹⁷ and the Coalition of American Millwork Producers.¹⁸

⁹ See Petitioners' Letter, “Petitioners' Response to Vietnam's Request for Market Economy Treatment,” dated October 6, 2023 (Petitioners' Comments).

¹⁰ See GOV's Letter, “Responses to Petitioners' Comments on Viet Nam's Request for Market Economy Treatment,” dated October 17, 2023.

¹¹ See Southern Shrimp Alliance's Letter, “Comments in Response to Request for Market Economy Status,” dated October 19, 2023.

¹² See Metal Grating Coalition's Letter, “Response to the Government of the Socialist Republic of Vietnam's Request for Changed Circumstances Review,” dated October 19, 2023.

¹³ See CFA et al.'s Letter, “Response to the Government of the Socialist Republic of Vietnam's Request for Changed Circumstances Review,” dated October 19, 2023.

¹⁴ See Coalition for Fair Trade in Hardwood Plywood's Letter, “Response to the Government of the Socialist Republic of Vietnam's Request for Changed Circumstances Review,” dated October 19, 2023.

¹⁵ See Wiley Rein, LLP's Letter, “Response to the Government of the Socialist Republic of Vietnam's Request for Changed Circumstances Review,” dated October 19, 2023.

¹⁶ See SDI, ASPA, and AKCA's Letter, “Response to Request for Changed Circumstances Review of the Antidumping Order on Raw Honey from the Socialist Republic of Vietnam,” dated October 20, 2023.

¹⁷ See Steel Manufacturer Association's Letter, “Response to the Government of the Socialist Republic of Vietnam's Requests for Changed Circumstances Review,” dated October 20, 2023.

¹⁸ See Coalition of American Millwork Producers' Letter, “Response to the Government of the Socialist Republic of Vietnam's Request for Changed Circumstances Review,” dated October 20, 2023.

Initiation of Changed Circumstances Review

Pursuant to section 751(b)(1) of the Tariff Act of 1930, as amended (the Act), when Commerce receives information concerning, or a request from an interested party for a review of, a final affirmative determination that resulted in an AD or countervailing duty order, which shows changed circumstances sufficient to warrant a review of such determination, Commerce shall conduct a review of the determination after publishing notice of the review in the Federal Register. Section 751(b)(4) of the Act provides that, in the absence of good cause, Commerce may not review final determinations regarding whether subject merchandise is being, or is likely to be, sold in the United States at less than its fair value, or whether or not a countervailable subsidy is being provided with respect to subject merchandise, less than 24 months after the date of publication of the notice of that determination.

As the GOV submitted substantial information on the reforms to the Vietnamese economy that are relevant to the six statutory factors Commerce reviews as part of its analysis on market economy status, and that have occurred since Commerce last reviewed Vietnam's market economy status in 2002,¹⁹ Commerce determines that good cause exists to review Vietnam's status as an NME country at this time within the meaning of 19 CFR 351.216(c). Section 771(18)(C)(ii) of the Act, which states that Commerce may make determinations of a country's NME status at any time, further grants Commerce the authority to initiate this NME review. Therefore, in response to this request, Commerce is initiating a CCR to examine whether Vietnam remains an NME country for purposes of the AD law, in accordance with sections 751(b) and 771(18)(C)(ii) of the Act.

¹⁹ See Notice of Final Antidumping Duty Determination of Sales at Less Than Fair Value and Affirmative Critical Circumstances: Certain Frozen Fish Fillets from the Socialist Republic of Vietnam, 68 FR 37116 (June 23, 2003).

Opportunity for Public Comment and Submission of Factual Information

As part of this inquiry in which we are reviewing Vietnam's NME country status, Commerce invites public comments with respect to Vietnam on the following factors enumerated by section 771(18)(B) of the Act, which Commerce must consider in making an ME/NME determination:

(i) the extent to which the currency of the foreign country is convertible into the currency of other countries;

(ii) the extent to which wage rates in the foreign country are determined by free bargaining between labor and management;

(iii) the extent to which joint ventures or other investments by firms of other foreign countries are permitted in the foreign country;

(iv) the extent of government ownership or control of the means of production;

(v) the extent of government control over the allocation of resources and over the price and output decisions of enterprises; and

(vi) such other factors as the administering authority considers appropriate.

The deadline for the submission of comments is not later than 30 days after the date of publication of this notice. Rebuttal comments, limited to issues raised in parties' affirmative comments, may be filed not later than 14 days after the date for filing affirmative comments. Interested parties must submit comments and factual information at the Federal eRulemaking Portal: https://www.Regulations.gov. The identification number is ITA-2023-0010. An electronically filed document must be received successfully in its entirety by 5:00 p.m. Eastern Time on the due date set forth in this notice. Parties may request a hearing in their comments. If Commerce determines that a hearing is warranted, parties will be notified of the date, time, and room number for the hearing, in accordance with 19 CFR 351.310(d).

Unless extended, consistent with 19 CFR 351.216(e), we will issue the final results of this CCR no later than 270 days after the date on which this review was initiated.

Notification to Interested Parties

This notice is issued and published in accordance with sections 751(b) and 771(18)(C)(ii) of the Act.

Dated: October 23, 2023.
Lisa W. Wang,
Assistant Secretary for Enforcement and Compliance.

[FR Doc. 2023-23849 Filed 10-27-23; 8:45 am]

BILLING CODE 3510-DS-P